DEPARTMENT OF VETERANS AFFAIRS

[OMB Control No. 2900-0800]

Agency Information Collection Activity under OMB Review: Airborne Hazards and Open Burn Pit Registry (AHOBPR) Web-Accessible Self-Assessment/Questionnaire

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 26, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0800” in any correspondence.

FOR FURTHER INFORMATION CONTACT: Danny S. Green, Office of Quality, Performance and Risk (OQPR), Department of Veterans Affairs, 810 Vermont Avenue NW, Washington, DC 20420, (202) 421-1354 or email danny.green2@va.gov Please refer to “OMB Control No. 2900-0800” in any correspondence.

SUPPLEMENTARY INFORMATION: Authority: 44 U.S.C. 3501-21.

Title: Airborne Hazards and Open Burn Pit Registry (AHOBPR) Web-accessible Self-Assessment/Questionnaire, VA Form 10-10066.

OMB Control Number: 2900-0800.

Type of Review: Reinstatement with change of a previously approved collection.

Abstract: Public Law 112-260 Section 201, enacted by President Obama on 10 January 2013, required Department of Veterans Affairs (VA) to establish and maintain an “Airborne Hazards and Open Burn Pit Registry (AHOBPR)” no later than one year from enactment. VA launched the AHOBPR in June 2014. There is no sunset date identified in the law. The Secretary of Veterans Affairs may “include any information in such registry that the Secretary of Veterans Affairs determines necessary to ascertain and monitor the health effects of the exposure of members of the Armed Forces to toxic airborne chemicals and fumes caused by open burn pits.” Currently, VA plans to operate the AHOBPR indefinitely, and we request approval to continue administering the questionnaire. The Qarmat Ali (QA) program is a new request for a follow-up information collection for a subset of Veterans impacted by a specific airborne hazard. In the Spring and Summer of 2003, approximately 700 U.S. Servicemembers may have been impacted by a specific airborne hazard while serving at a water injection plant in Qarmat Ali, Iraq. The Department of Defense (DoD) was unable to determine specific exposure levels near the water treatment facility. In 2010, in response to DoD's notification, the VA offered no-cost medical evaluations and encouraged the cohort to enroll in a new Qarmat Ali medical surveillance program within the Gulf War Registry. The QA cohort is also eligible to participate in the AHOBPR program due to their deployment to Iraq. As part of the planned 5-year periodic medical follow-up and surveillance program, self-reported information will be collected through the AHOBPR as outlined above. Information collected is voluntary and is used to provide outreach and quality health services to AHOBPR participants. Collected data contributes to VA's ability to understand the potential health effects of the exposure to burn pit emissions and other airborne hazards during deployment, such as particulate matter.

An agency may not conduct or sponsor, and a person is not required to respond to, a collection of information unless it displays a currently valid OMB control number. The Federal Register Notice with a 60-day comment period soliciting comments on this collection of information was published at 84 FR 19829 on May 6, 2019, pages 19829 and 19830.

Airborne Hazards and Open Burn Pit Registry (AHOBPR) Self-Assessment/Questionnaire

Affected Public: Individuals and households.

Estimated Annual Burden: 33,333 hours.

Estimated Average Burden per Respondent: 40 minutes.

Frequency of Response: Once.

Estimated Number of Respondents: 50,000.

Subset of AHOBPR, Qarmat Ali Questionnaire

Affected Public: Individuals and households.

Estimated Annual Burden: 114 hours.

Estimated Average Burden per Respondent: 10 minutes.

Frequency of Response: Once.

Estimated Number of Respondents: 686.

By direction of the Secretary.
Danny S. Green,
Interim VA Clearance Officer, Office of Quality, Performance and Risk (OQPR), Department of Veterans Affairs.

[FR Doc. 2019-15785 Filed 7-24-19; 8:45 am]

BILLING CODE 8320-01-P